DEPARTMENT OF THE INTERIOR

Office of Surface Mining Reclamation and Enforcement

30 CFR Part 920

[SATS No. MD-056-FOR; Docket ID: OSM 2010-0008]

Maryland Regulatory Program

AGENCY: Office of Surface Mining Reclamation and Enforcement (OSM), Interior.

ACTION: Proposed rule; public comment period and opportunity for public hearing on proposed amendment.

SUMMARY: We are announcing receipt of a proposed amendment to the Maryland program (the “Maryland program”) under the Surface Mining Control and Reclamation Act of 1977 (SMCRA or the Act) (Administrative Record No. 588.00). Maryland added provisions to regulate coal combustion byproducts (CCBs) and to establish requirements pertaining to the generation, storage, handling, processing, disposal, recycling, beneficial use, or other use of CCBs within the State. In total these regulations pertain to all CCB activities in the State, not just surface coal mining and reclamation operations. However, a section of the Code of Maryland Regulations (COMAR) specifically pertains to the surface coal mining and reclamation operations. The regulation specific to surface coal mining and reclamation operations is a new regulation, Regulation .08 under COMAR 26.20.24, Special Performance Standards. Maryland is requesting approval of this section that it submitted as an amendment on June 24, 2010.

This document gives the times and locations that the Maryland submittal are available for your inspection, the comment period during which you may submit written comments, and the procedures that we will follow for the public hearing, if one is requested.

DATES: We will accept written comments until 4 p.m., local time February 28, 2011. If requested, we will hold a public hearing on February 22, 2011. We will accept requests to speak until 4 p.m., local time on February 14, 2011.

ADDRESSES: You may submit comments, identified by “MD-056-FOR; Docket ID: OSM-2010-0008” by either of the following two methods:

Federal eRulemaking Portal: http://www.regulations.gov. The proposed rule has been assigned Docket ID: OSM-2010-0008. If you would like to submit comments through the Federal eRulemaking Portal, go to http://www.regulations.gov and follow the instructions.

Mail/Hand Delivery/Courier: Mr. George Rieger, Chief, Pittsburgh Field Division, Office of Surface Mining Reclamation and Enforcement, Three Parkway Center, Suite 300, Pittsburgh, PA 15220.

Instructions: For detailed instructions on submitting comments and additional information on the rulemaking process, see the “Public Comment Procedures” heading of the SUPPLEMENTARY INFORMATION section of this document.

Docket: In addition to obtaining copies of documents at http://www.regulations.gov, information may also be obtained at the addresses listed below during normal business hours, Monday through Friday, excluding holidays. You may receive one free copy of the amendment by contacting OSM's Pittsburgh Field Division Office.

George Rieger, Chief, Pittsburgh Field Division, Office of Surface Mining Reclamation and Enforcement, Three Parkway Center, Suite 300, Pittsburgh, Pennsylvania 15220, Telephone: (412) 937-2153, E-mail: grieger@osmre.gov.

John E. Carey, Director, Maryland Bureau of Mines, 160 South Water Street, Frostburg, MD 21532, Telephone: (301) 689-1442; E-mail: jcarey@mde.state.md.us.

FOR FURTHER INFORMATION CONTACT: George Rieger, Telephone: (412) 937-2153. E-mail: grieger@osmre.gov.

SUPPLEMENTARY INFORMATION:

I. Background on the Maryland Program

II. Description of the Amendment

III. Public Comment Procedures

IV. Procedural Determinations

I. Background on the Maryland Program

Section 503(a) of the Act permits a State to assume primacy for the regulation of surface coal mining and reclamation operations on non-Federal and non-Indian lands within its borders by demonstrating that its program includes, among other things, “a State law which provides for the regulation of surface coal mining and reclamation operations in accordance with the requirements of this Act * * *; and rules and regulations consistent with regulations issued by the Secretary pursuant to this Act.” See 30 U.S.C. 1253(a)(1) and (7). On the basis of these criteria, the Secretary of the Interior approved the Maryland program on February 18, 1982. You can find background information on the Maryland program, including the Secretary's findings, the disposition of comments, and conditions of approval of the Maryland program in the February 18, 1982, Federal Register (47 FR 7214-7217). You can also find later actions concerning the Maryland program and program amendments at 30 CFR 920.12, 920.15, 920.16.

II. Description of the Amendment

By letter dated June 24, 2010, Maryland sent us an amendment to its program, Administrative Record Number MD-588.00, under SMCRA (30 U.S.C. 1201 et seq.). Maryland added regulations to regulate coal combustion byproducts and to establish requirements pertaining to the generation, storage, handling, processing, disposal, recycling, beneficial use, or other use of coal combustion byproducts (CCB) within the State. In total, these regulations pertain to all CCB activities in the State, not just surface coal mining and reclamation operations. However, a section of the added regulations specifically pertains to surface coal mining and reclamation operations and are proposed to be part of Maryland's Federally approved state program. The regulation specific to surface coal mining and reclamation operations has been added as a new regulation, Regulation .08 under COMAR 26.20.24, Special Performance Standards.

Specifically, Maryland's Regulation .08 Utilization of Coal Combustion Byproducts will include paragraphs A-H on the Purpose and Scope, Conditions for Utilization, and Testing and Monitoring. Additionally, Maryland is adding a Coal Combustion Byproducts Utilization Request requirement that will require a solids analysis of the CCBs and a Toxicity Characteristics Leaching Procedure (TCLP) leachate analysis of the CCBs. Maryland may also impose additional controls or conditions on the use of CCBs as it sees fit for the protection of human health and the environment.

The full text of the program amendment is available for you to read at the locations listed above under ADDRESSES.

III. Public Comment Procedures

Under the provisions of 30 CFR 732.17(h), we are seeking your comments on whether the submission satisfies the applicable program approval criteria of 30 CFR 732.15. If we approve the amendment, it will become part of the Maryland program.

Electronic or Written Comments

If you submit written comments, they should be specific, confined to issues pertinent to the proposed regulations, and explain the reason for any recommended change(s). We appreciate any and all comments, but those most useful and likely to influence decisions on the final regulations will be those that either involve personal experience or include citations to and analyses of SMCRA, its legislative history, its implementing regulations, case law, other pertinent Tribal or Federal laws or regulations, technical literature, or other relevant publications. We cannot ensure that comments received after the close of the comment period (see DATES) or sent to an address other than those listed above (see ADDRESSES) will be included in the docket for this rulemaking and considered.

Public Availability of Comments

Before including your address, phone number, e-mail address, or other personal identifying information in your comment, you should be aware that your entire comment—including your personal identifying information—may be made publicly available at any time. While you may ask us in your comment to withhold your personal identifying information from public review, we cannot guarantee that we will be able to do so. We will not consider anonymous comments.

Public Hearing

If you wish to speak at the public hearing, contact the person listed under FOR FURTHER INFORMATION CONTACT by 4 p.m., local time February 14, 2011. If you are disabled and need reasonable accommodations to attend a public hearing, contact the person listed under FOR FURTHER INFORMATION CONTACT. We will arrange the location and time of the hearing with those persons requesting the hearing. If no one requests an opportunity to speak, we will not hold the hearing.

To assist the transcriber and ensure an accurate record, we request, if possible, that each person who speaks at a public hearing provide us with a written copy of his or her comments. The public hearing will continue on the specified date until everyone scheduled to speak has been given an opportunity to be heard. If you are in the audience and have not been scheduled to speak and wish to do so, you will be allowed to speak after those who have been scheduled. We will end the hearing after everyone scheduled to speak and others present in the audience who wish to speak, have been heard.

Public Meeting

If there is only limited interest in participating in a public hearing, we may hold a public meeting rather than a public hearing. If you wish to meet with us to discuss the submission, please request a meeting by contacting the person listed under FOR FURTHER INFORMATION CONTACT. All such meetings are open to the public and, if possible, we will post notices of meetings at the locations listed under ADDRESSES. We will make a written summary of each meeting a part of the administrative record.

IV. Procedural Determinations

Executive Order 12866—Regulatory Planning and Review

This rule is exempted from review by the Office of Management and Budget (OMB) under Executive Order 12866.

Other Laws and Executive Orders Affecting Rulemaking

When a State submits a program amendment to OSM for review, our regulations at 30 CFR 732.17(h) require us to publish a notice in the Federal Register indicating receipt of the proposed amendment, its text or a summary of its terms, and an opportunity for public comment. We conclude our review of the proposed amendment after the close of the public comment period and determine whether the amendment should be approved, approved in part, or not approved. At that time, we will also make the determinations and certifications required by the various laws and executive orders governing the rulemaking process and include them in the final rule.

List of Subjects in 30 CFR Part 920

Intergovernmental relations, Surface mining, Underground mining.

Dated: September 1, 2010.
Michael K. Robinson,
Acting Regional Director, Appalachian Region.

Editorial Note: This document was received in the Office of the Federal Register on January 14, 2011.

[FR Doc. 2011-1113 Filed 1-27-11; 8:45 am]

BILLING CODE 4310-05-P